DEPARTMENT OF ENERGY

Federal Energy Regulatory Commission

[Docket No. RP04-394-000]

Dominion Transmission, Inc.; Notice of Report of Overrun Charge/Penalty Revenue Distribution

July 9, 2004.

Take notice that on July 2, 2004, Dominion Transmission, Inc. (DTI) filed its annual report of overrun charge/penalty revenue distributions. DTI notes that section 41 of the General Terms and Conditions of DTI's FERC Gas Tariff, Crediting of Unauthorized Overrun Charge and Penalty Revenues, requires distribution of such charges and revenues to non-offending customers on June 30 of each year, and filing of the related report within 30 days of the distribution. DTI states that it distributed the penalty revenues to customers on June 30, 2004, and that included in the distribution was the overrun penalty revenue DTI received from offending customers for the 12-month period ending March 2004, with interest calculated through June 30, 2004.

DTI states that copies of the transmittal letter and summary workpapers were mailed to DTI's customers and to all interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Intervention and Protest Date: July 16, 2004.

Magalie R. Salas,
Secretary.

[FR Doc. E4-1585 Filed 7-14-04; 8:45 am]

BILLING CODE 6717-01-P